SURFACE TRANSPORTATION BOARD

[Docket No. FD 36644]

Mid-Atlantic Gateway LLC—Lease and Operation Exemption—Certain Rail Line Assets of J.P. Rail, Inc. d/b/a Southern RR Company of New Jersey

Mid-Atlantic Gateway LLC (MAG), a noncarrier, has filed a verified notice of exemption under 49 CFR 1150.31 to acquire by lease and operate over approximately 0.12 miles (634 linear feet) of track, located between mileposts 56.99 and 56.87 on the Pleasantville Branch Line in Atlantic County, N.J. (the Line).

According to MAG, the Line is currently owned by J. P. Rail, Inc. d/b/a Southern RR Company of New Jersey (J.P. Rail), a Class III carrier. MAG states that it has reached an agreement in principle with J.P. Rail under which MAG will acquire by lease and operate over the Line. The verified notice states that MAG will hold itself out to provide common carrier rail freight service pursuant to its agreement with J.P. Rail.

MAG certifies that its projected annual revenues from this transaction will not result in its becoming a Class I or Class II rail carrier and will not exceed $5 million. MAG also certifies that the proposed transaction does not include an interchange commitment.

The transaction may be consummated on or after November 27, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than November 18, 2022 (at least seven days before the exemption becomes effective).

All pleadings, referring to Docket No. FD 36644, must be filed with the Surface Transportation Board either via e-filing on the Board's website or in writing addressed to 395 E Street SW, Washington, DC 20423-0001. In addition, a copy of each pleading must be served on MAG's representative, Robert McGurk, CEO, Mid-Atlantic Gateway LLC, 34 Millrace Lane, Rockland, DE 19732.

According to MAG, this action is categorically excluded from environmental review under 49 CFR 1105.6(c) and from historic preservation reporting requirements under 49 CFR 1105.8(b).

Board decisions and notices are available at www.stb.gov.

Decided: November 4, 2022.
By the Board, Mai T. Dinh, Director, Office of Proceedings.
Raina White,
Clearance Clerk.

[FR Doc. 2022-24544 Filed 11-9-22; 8:45 am]

BILLING CODE 4915-01-P